DEPARTMENT OF EDUCATION

34 CFR Parts 606, 607, and 608

Developing Hispanic-Serving Institutions Program, Strengthening Institutions Program, American Indian Tribally Controlled Colleges and Universities Program, and Strengthening Historically Black Colleges and Universities Program

AGENCY: Office of Postsecondary Education, Department of Education.

ACTION: Final regulations.

SUMMARY: We are amending the regulations governing the Developing Hispanic-Serving Institutions, Strengthening Institutions, American Indian Tribally Controlled Colleges and Universities, and Strengthening Historically Black Colleges and Universities Programs to incorporate statutory changes made by the Higher Education Amendments of 1998 (1998 Amendments). The 1998 Amendments provide that if grantee institutions under the Developing Hispanic-Serving Institutions, Strengthening Institutions, American Indian Tribally Controlled Colleges and Universities, and Strengthening Historically Black Colleges and Universities Programs use grant funds to establish or increase endowment funds, we can subject that use to appropriate requirements under the Endowment Challenge Grant Program. These amendments to the regulations implement the statutory changes.

DATES: These regulations are effective January 18, 2001.

FOR FURTHER INFORMATION CONTACT: Darlene Collins, U.S. Department of Education, 1990 K Street, NW., Room 6032, Washington, DC 20006-8512. Telephone: (202) 502-7576. If you use a telecommunications device for the deaf (TDD), you may call the Federal Information Relay Service (FIRS) at 1-800-877-8339.

Individuals with disabilities may obtain this document in an alternative format (e.g., Braille, large print, audiotape, or computer diskette) on request to the contact person listed in the preceding paragraph.

SUPPLEMEMTARY INFORMATION:

Background

As amended by the 1998 Amendments, sections 311(d)(1), 316(c)(3)(A), 323(b)(1), and 503(c)(1) of the Higher Education Act of 1965, as amended (HEA), authorize grantee institutions under the Strengthening Institutions, American Indian Tribally Controlled Colleges and Universities, Strengthening Historically Black Colleges and Universities, and Developing Hispanic Serving-Institutions Programs to use up to 20% of their grants funds to establish or increase endowment funds. Amended sections 311(d)(3), 316(c)(3)(C), 323(b)(3), and 503(c)(3) of the HEA provide, in effect, that we can subject an institution's use of grant funds for that purpose to appropriate requirements in the Endowment Challenge Grant Program.

We implemented the Endowment Challenge Grant Program requirements in regulations contained in 34 CFR part 628. In the Federal Register of March 21, 2000, (65 FR 15115-15118) we proposed to subject grantees' use of grant funds for endowments under the Strengthening Institutions, Strengthening Historically Black Colleges and Universities, and Developing Hispanic Serving-Institutions Programs to the following Endowment Challenge Grant Program regulatory provisions: §§ 628.3, 628.6, 628.10, and 628.41 through 628.47.We revised the definition of the term “endowment fund income” to clarify that endowment fund income includes fund appreciation and retained fund interest and dividends. We revised the institutional match requirement to reflect the statutory requirement that the match must be made on at least a one-to-one basis, that is, each grant dollar to be used for endowment purposes must be matched with at least one non-Federal dollar. Finally, if an institution decides to use grant funds for endowment fund purposes it must immediately match those grant funds with non-Federal dollars.

These proposals were included in § 606.10(d) for the Developing Hispanic-Serving Institutions Program, § 607.10(d) for the Strengthening Institutions Program, and § 608.10(d) for the Strengthening Historically Black Colleges and Universities Program.

Changes from Proposed Regulations

On March 21, 2000, we published a notice of proposed rulemaking (NPRM) for these programs in the Federal Register (65 FR 15115). No comments were received on the proposed regulations. Except for minor editorial revisions, including the addition of specific references to the American Indian Tribally Controlled Colleges and Universities Program to clarify that these provisions are applicable to that program, there are no differences between the NPRM and these final regulations.

Paperwork Reduction Act of 1995

These proposed regulations do not contain any information collection requirements.

Intergovernmental Review

These programs are subject to Executive Order 12372 and the regulations in 34 CFR part 79. One of the objectives in the Executive order is to foster an intergovernmental partnership and a strengthened federalism. The Executive order relies on processes developed by State and local governments for coordination and review of proposed Federal financial assistance.

This document provides early notification of our specific plans and actions for these programs.

Assessment of Educational Impact

In the NPRM we requested comments on whether the proposed regulations would require transmission of information that any other agency or authority of the United States gathers or makes available.

Based on the response to the NPRM and on our review, we have determined that these final regulations do not require transmission of information that any other agency or authority of the United States gathers or makes available.

Electronic Access to This Document

You may view this document, as well as all other Department of Education documents published in the Federal Register, in text or Adobe Portable Document Format (PDF) on the Internet at either of the following sites: http://ocfo.ed.gov/fedreg.htm; http://www.ed.gov/news.html.

To use PDF you must have Adobe Acrobat Reader, which is available free at either of the previous sites. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html.

(Catalog of Federal Domestic Assistance Numbers: 84.031S, 84.031A, and 84.031B)

List of Subjects in 34 CFR Parts 606, 607, and 608

Colleges and universities, Grant programs-education, Reporting and recordkeeping requirements.

Dated: December 12, 2000.
A. Lee Fritschler,
Assistant Secretary, Office of Postsecondary Education.

For the reasons discussed in the preamble, the Secretary amends title 34 of the Code of Federal Regulations by amending parts 606, 607, and 608 as follows:

PART 606—DEVELOPING HISPANIC-SERVING INSTITUTIONS PROGRAM

1. The authority citation for part 606 continues to read as follows:

Authority: 20 U.S.C. 1101 et seq., unless otherwise noted.

2. Section 606.10 is amended by adding a new paragraph (d) to read as follows:

§ 606.10 What activities may and may not be carried out under a grant?

* * * * *

(d) Endowment funds. If a grantee uses part of its grant funds to establish or increase an endowment fund, it must comply with the provisions of §§ 628.3, 628.6, 628.10, and 628.41 through 628.47 of this chapter with regard to the use of those funds, except—

(1) The definition of the term “endowment fund income” in § 628.6 of this chapter does not apply. For the purposes of this paragraph (d), “endowment fund income” means an amount equal to the total value of the fund, including fund appreciation and retained interest and dividends, minus the endowment fund corpus;

(2) Instead of the requirement in § 628.10(a) of this chapter, the grantee institution must match each dollar of Federal grant funds used to establish or increase an endowment fund with one dollar of non-Federal funds; and

(3) Instead of the requirements in § 628.41(a)(3) through (a)(5) and the introductory text in § 628.41(b) and § 628.41(b)(2) and (b)(3) of this chapter, if a grantee institution decides to use any of its grant funds for endowment purposes, it must match those grant funds immediately with non-Federal funds when it places those funds into its endowment fund.

PART 607—STRENGTHENING INSTITUTIONS PROGRAM

3. The authority citation for part 607 continues to read as follows:

Authority: 20 U.S.C. 1057-1059c, 1066-1069f, unless otherwise noted.

4. Section 607.10 is amended by adding a new paragraph (d) to read as follows:

§ 607.10 What activities may and may not be carried out under a grant?

* * * * *

(d) Endowment funds. If a grantee uses part of its grant funds to establish or increase an endowment fund under paragraphs (b)(11) or (b)(13)(xiii) of this section, it must comply with the provisions of §§ 628.3, 628.6, 628.10 and 628.41 through 628.47 of this chapter with regard to the use of those funds, except—

(1) The definition of the term “endowment fund income” in § 628.6 of this chapter does not apply. For the purposes of this paragraph (d), “endowment fund income” means an amount equal to the total value of the fund, including fund appreciation and retained interest and dividends, minus the endowment fund corpus.

(2) Instead of the requirement in § 628.10(a) of this chapter, the grantee institution must match each dollar of Federal grant funds used to establish or increase an endowment fund with one dollar of non-Federal funds; and

(3) Instead of the requirements in § 628.41(a)(3) through (a)(5) and the introductory text in § 628.41(b) and § 628.41(b)(2) and (b)(3) of this chapter, if a grantee institution decides to use any of its grant funds for endowment purposes, it must match those grant funds immediately with non-Federal funds when it places those funds into its endowment fund.

PART 608—STRENGTHENING HISTORICALLY BLACK COLLEGES AND UNIVERSITIES PROGRAM

5. The authority citation for part 608 continues to read as follows:

Authority: 20 U.S.C. 1060 through 1063a, 1063c, 1066, 1068, 1069c, 1069d, and 1069f, unless otherwise noted.

6. Section 608.10 is amended by adding a new paragraph (d) to read as follows:

§ 608.10 What activities may be carried out under a grant?

* * * * *

(d) Endowment funds. If a grantee uses part of its grant funds to establish or increase an endowment fund, it is subject to the provisions of §§ 628.3, 628.6, 628.10 and 628.41 through 628.47 of this chapter with regard to the use of those funds, except—

(1) The definition of the term “endowment fund income” in § 628.6 of this chapter does not apply. For the purposes of this paragraph (d), “endowment fund income” means an amount equal to the total value of the fund, including fund appreciation and retained interest and dividends, minus the endowment fund corpus;

(2) Instead of the requirement in § 628.10(a) of this chapter, the grantee institution must match each dollar of Federal grant funds used to establish or increase an endowment fund with one dollar of non-Federal funds; and

(3) Instead of the requirements in § 628.41(a)(3) through (a)(5) and the introductory text in § 628.41(b) and § 628.41(b)(2) and (b)(3) of this chapter, if a grantee institution decides to use any of its grant funds for endowment purposes, it must match those grant funds immediately with non-Federal funds when it places those funds into its endowment fund.

[FR Doc. 00-32199 Filed 12-18-00; 8:45 am]

BILLING CODE 4000-01-P